DEPARTMENT OF EDUCATION

[Docket No.: ED-2015-ICCD-0118]

Agency Information Collection Activities; Comment Request; Application for Grants Under the Talent Search Program

Correction

In notice document 2015-25354, appearing on pages 60358-60369 in the Issue of Tuesday, October 6, 2015, make the following correction:

On page 60368, in the third column, under the heading DATES: the entry “December 7, 2015” is corrected to read “November 5, 2015”.

[FR Doc. 2015-25354 Filed 10-9-15; 8:45 am]

BILLING CODE 1505-01-D